DEPARTMENT OF ENERGY

Federal Energy Regulatory Commission

Combined Notice of Filings #1

Take notice that the Commission received the following electric corporate filings:

Docket Numbers: EC21-56-000.

Applicants: Duke Energy Indiana, LLC, GIC Infra Holdings Pte. Ltd.

Description: Duke Energy Indiana, LLC and GIC Infra Holdings Pte. Ltd. submit Response to May 17, 2021 Deficiency Letter.

Filed Date: 5/28/21.

Accession Number: 20210528-5513.

Comments Due: 5 p.m. ET 6/18/21.

Docket Numbers: EC21-100-000.

Applicants: Blackwell Wind, LLC, Blackwell Wind Energy, LLC.

Description: Application for Authorization Under Section 203 of the Federal Power Act of Blackwell Wind, LLC, et al.

Filed Date: 6/7/21.

Accession Number: 20210607-5223.

Comments Due: 5 p.m. ET 6/28/21.

Take notice that the Commission received the following electric rate filings:

Docket Numbers: ER20-2009-005.

Applicants: Tri-State Generation and Transmission Association, Inc.

Description: Compliance filing: Tri-State Compliance Filing to be effective 7/15/2020.

Filed Date: 6/7/21.

Accession Number: 20210607-5171.

Comments Due: 5 p.m. ET 6/28/21.

Docket Numbers: ER20-2202-002.

Applicants: Cassadaga Wind LLC.

Description: Notice of Non-Material Change in Status of Cassadaga Wind LLC.

Filed Date: 6/7/21.

Accession Number: 20210607-5225.

Comments Due: 5 p.m. ET 6/28/21.

Docket Numbers: ER21-625-003.

Applicants: New York Independent System Operator, Inc.

Description: Compliance filing: NYISO supplemental notice of delayed effective date—SENY reserve enhancements to be effective 6/17/2021.

Filed Date: 6/8/21.

Accession Number: 20210608-5114.

Comments Due: 5 p.m. ET 6/29/21.

Docket Numbers: ER21-1111-001.

Applicants: Alabama Power Company.

Description: Tariff Amendment: Response to Deficiency Letter regarding Southeast EEM Agreement to be effective 8/6/2021.

Filed Date: 6/7/21.

Accession Number: 20210607-5164.

Comments Due: 5 p.m. ET 6/28/21.

Docket Numbers: ER21-1112-001.

Applicants: Dominion Energy South Carolina, Inc.

Description: Tariff Amendment: SEEM Concurrence Deficiency Filing to be effective 8/6/2021.

Filed Date: 6/8/21.

Accession Number: 20210608-5002.

Comments Due: 5 p.m. ET 6/29/21.

Docket Numbers: ER21-1114-001.

Applicants: Louisville Gas and Electric Company.

Description: Tariff Amendment: Southeast EEM Response to Deficiency Filing to be effective 8/6/2021.

Filed Date: 6/7/21.

Accession Number: 20210607-5182.

Comments Due: 5 p.m. ET 6/28/21.

Docket Numbers: ER21-1115-001.

Applicants: Duke Energy Progress, LLC, Duke Energy Carolinas, LLC.

Description: Tariff Amendment: Response to Deficiency Letter regarding Southeast EEM Agreement to be effective 12/31/9998.

Filed Date: 6/7/21.

Accession Number: 20210607-5187.

Comments Due: 5 p.m. ET 6/28/21.

Docket Numbers: ER21-1116-001.

Applicants: Duke Energy Carolinas, LLC.

Description: Tariff Amendment: DEC—Southeast Energy Exchange Market Concurrence Deficiency Response to be effective 8/6/2021.

Filed Date: 6/7/21.

Accession Number: 20210607-5184.

Comments Due: 5 p.m. ET 6/28/21.

Docket Numbers: ER21-1117-001.

Applicants: Duke Energy Progress, LLC.

Description: Tariff Amendment: DEP—Southeast Energy Exchange Market Concurrence Deficiency Response to be effective 8/6/2021.

Filed Date: 6/7/21.

Accession Number: 20210607-5183.

Comments Due: 5 p.m. ET 6/28/21.

Docket Numbers: ER21-1118-001.

Applicants: Louisville Gas and Electric Company.

Description: Tariff Amendment: Southeast EEM Response to Deficiency Filing LGEKU OATT to be effective 12/31/9998.

Filed Date: 6/8/21.

Accession Number: 20210608-5000.

Comments Due: 5 p.m. ET 6/29/21.

Docket Numbers: ER21-1119-001.

Applicants: Georgia Power Company.

Description: Tariff Amendment: Response to Deficiency Letter regarding Southeast EEM Agreement to be effective 8/6/2021.

Filed Date: 6/7/21.

Accession Number: 20210607-5168.

Comments Due: 5 p.m. ET 6/28/21.

Docket Numbers: ER21-1120-001.

Applicants: Kentucky Utilities Company.

Description: Tariff Amendment: KU Concurrence SEEM Deficiency Response to be effective 8/6/2021.

Filed Date: 6/8/21.

Accession Number: 20210608-5001.

Comments Due: 5 p.m. ET 6/29/21.

Docket Numbers: ER21-1121-001.

Applicants: Mississippi Power Company.

Description: Tariff Amendment: Response to Deficiency Letter regarding Southeast EEM Agreement to be effective 8/6/2021.

Filed Date: 6/7/21.

Accession Number: 20210607-5169.

Comments Due: 5 p.m. ET 6/28/21.

Docket Numbers: ER21-1125-001.

Applicants: Alabama Power Company.

Description: Tariff Amendment: Response to Deficiency Letter regarding Southeast EEM Agreement to be effective 12/31/9998.

Filed Date: 6/7/21.

Accession Number: 20210607-5167.

Comments Due: 5 p.m. ET 6/28/21.

Docket Numbers: ER21-1128-001.

Applicants: Dominion Energy South Carolina, Inc.

Description: Tariff Amendment: Attach P and P-1—NEETS Additional Info to be effective 12/31/9998.

Filed Date: 6/8/21.

Accession Number: 20210608-5003.

Comments Due: 5 p.m. ET 6/29/21.

Docket Numbers: ER21-1691-001.

Applicants: Midcontinent Independent System Operator, Inc.

Description: Tariff Amendment: 2021-06-07_SA 3476 ATC-Grant County Solar Substitute 1st Rev GIA (J947) to be effective 4/2/2021.

Filed Date: 6/7/21.

Accession Number: 20210607-5159.

Comments Due: 5 p.m. ET 6/28/21.

Docket Numbers: ER21-2085-000.

Applicants: Crawford Solar LLC.

Description: Petition for Limited Waiver of Crawford Solar LLC.

Filed Date: 6/4/21.

Accession Number: 20210604-5188.

Comments Due: 5 p.m. ET 6/25/21.

Docket Numbers: ER21-2091-000.

Applicants: Mechanicsville Solar, LLC.

Description: Baseline eTariff Filing: Reactive Power Compensation Filing to be effective 6/8/2021.

Filed Date: 6/7/21.

Accession Number: 20210607-5148.

Comments Due: 5 p.m. ET 6/28/21.

Docket Numbers: ER21-2092-000.

Applicants: Pacific Gas and Electric Company.

Description: § 205(d) Rate Filing: Berry Petroleum Tannehill Cogen SGIA (TO SA 413) to be effective 6/8/2021.

Filed Date: 6/7/21.

Accession Number: 20210607-5177.

Comments Due: 5 p.m. ET 6/28/21.

Docket Numbers: ER21-2093-000.

Applicants: Pacific Gas and Electric Company.

Description: § 205(d) Rate Filing: Berry Petroleum University Cogen LGIA (TO SA 414) to be effective 6/8/2021.

Filed Date: 6/7/21.

Accession Number: 20210607-5179.

Comments Due: 5 p.m. ET 6/28/21.

Docket Numbers: ER21-2094-000.

Applicants: Southwest Power Pool, Inc.

Description: § 205(d) Rate Filing: 3126R6 WAPA NITSA NOA to be effective 6/1/2021.

Filed Date: 6/8/21.

Accession Number: 20210608-5034.

Comments Due: 5 p.m. ET 6/29/21.

Docket Numbers: ER21-2095-000.

Applicants: PJM Interconnection, L.L.C.

Description: § 205(d) Rate Filing: Original ISA, SA No. 6075; Queue No. AF1-257; Cancellation of WMPA, SA No. 3257 to be effective 5/10/2021.

Filed Date: 6/8/21.

Accession Number: 20210608-5046.

Comments Due: 5 p.m. ET 6/29/21.

Docket Numbers: ER21-2096-000.

Applicants: Midcontinent Independent System Operator, Inc., American Transmission Company LLC.

Description: § 205(d) Rate Filing: 2021-06-08_SA 3665 ATC-North Rock Solar E&P (J1188) to be effective 5/28/2021.

Filed Date: 6/8/21.

Accession Number: 20210608-5056.

Comments Due: 5 p.m. ET 6/29/21.

Docket Numbers: ER21-2097-000.

Applicants: Coso Battery Storage, LLC.

Description: § 205(d) Rate Filing: Coso Battery Storage, LLC Co-Tenancy and SFA Certificate of Concurrence to be effective 6/9/2021.

Filed Date: 6/8/21.

Accession Number: 20210608-5066.

Comments Due: 5 p.m. ET 6/29/21.

Docket Numbers: ER21-2098-000.

Applicants: New York Independent System Operator, Inc.

Description: § 205(d) Rate Filing: 205 Periodic review study & tariff revisions re: BSM Exempt Renewable Technology to be effective 8/9/2021.

Filed Date: 6/8/21.

Accession Number: 20210608-5078.

Comments Due: 5 p.m. ET 6/29/21.

Docket Numbers: ER21-2099-000.

Applicants: Duke Energy Florida, LLC.

Description: § 205(d) Rate Filing: DEF-FPL RS No. 81—Revised Contract for Interchange Service to be effective 8/8/2021.

Filed Date: 6/8/21.

Accession Number: 20210608-5130.

Comments Due: 5 p.m. ET 6/29/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 8, 2021.
Debbie-Anne A. Reese,
Deputy Secretary.

[FR Doc. 2021-12370 Filed 6-11-21; 8:45 am]

BILLING CODE 6717-01-P